INTERNATIONAL TRADE COMMISSION

[Investigation No. 731-TA-149 (Fifth Review)]

Barium Chloride From China

Determinations

On the basis of the record ¹ developed in the subject five-year review, the United States International Trade Commission (“Commission”) determines, pursuant to the Tariff Act of 1930 (“the Act”), that revocation of the antidumping duty order on barium chloride from China would be likely to lead to continuation or recurrence of material injury to an industry in the United States within a reasonably foreseeable time.

¹ The record is defined in sec. 207.2(f) of the Commission's Rules of Practice and Procedure (19 CFR 207.2(f)).

Background

The Commission instituted this review on October 1, 2020 (85 FR 61984) and determined on January 4, 2021 that it would conduct an expedited review (86 FR 24412, May 6, 2021).

The Commission made this determination pursuant to section 751(c) of the Act (19 U.S.C. 1675(c)). It completed and filed its determination for this review on June 1, 2021. The views of the Commission are contained in USITC Publication 5203 (June 2021), entitled Barium Chloride from China: Investigation No. 731-TA-149 (Fifth Review).

By order of the Commission.
Issued: June 1, 2021.
Lisa Barton,
Secretary to the Commission.

[FR Doc. 2021-11794 Filed 6-4-21; 8:45 am]

BILLING CODE 7020-02-P